DEPARTMENT OF HEALTH AND HUMAN SERVICES

Administration for Children and Families

Proposed Information Collection Activity; Comment Request

Proposed Projects

Title: ORR-3 Placement Report and ORR-4 Progress Report for Unaccompanied Refugee Minors (URM) Program.

OMB No.: 0970-0034.

Description: As required by section 412(d) of the Immigration and Nationality Act, the Administration for Children and Families (ACF), Office of Refugee Resettlement (ORR), is requesting the information from report Form ORR-3 and ORR-4 to administer the Unaccompanied Refugee Minors (URM) program. The ORR-3 (Placement Report) is submitted to ORR by the State agency at the minor's initial placement in the resettlement State within 30 days of the placement, and whenever there is a change in the minor's status, including termination from the program, within 60 days of the change or closure of the case. The ORR-4 (Progress Report) is submitted every 12 months beginning with 12 months from the date of the initial placement to record outcomes of the child's progress toward the goals listed in the child's case plan. ORR-4 is also submitted along with the initial ORR-3 report for 17 years old or above youth related to independent living and/or educational plans. The ORR regulations per 45 CFR 400.120 describe specific URM program reporting requirements.

Respondents: State governments.

Annual Burden Estimates
Instrument | Number of respondents | Number of responses per respondent | Average burden hours per response | Total burden hours
ORR-3 | 15 | Estimated responses 178 | 0.25 (15 min) | Estimated 667.5.
ORR-4 | 15 | Estimated responses 127 | 1.25 (1 hour and 15 min) | Estimated 2,381.25.

Estimated Total Annual Burden Hours: 3,048.75.

In compliance with the requirements of Section 506(c)(2)(A) of the Paperwork Reduction Act of 1995, the Administration for Children and Families is soliciting public comment on the specific aspects of the information collection described above. Copies of the proposed collection of information can be obtained and comments may be forwarded by writing to the Administration for Children and Families, Office of Planning, Research and Evaluation, 330 C Street SW., Washington DC 20201. Attn: ACF Reports Clearance Officer. Email address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Robert Sargis,
Reports Clearance Officer.

[FR Doc. 2016-07361 Filed 3-31-16; 8:45 am]

BILLING CODE 4184-01-P